DEPARTMENT OF THE INTERIOR

National Park Service

Notice of Intent to Repatriate Cultural Items: Western Reserve Historical Society, Cleveland, OH

AGENCY: National Park Service, Interior.

ACTION: Notice.

Notice is here given in accordance with the Native American Graves Protection and Repatriation Act (NAGPRA), 25 U.S.C. 3005, of the intent to repatriate cultural items in the possession of the Western Reserve Historical Society, Cleveland, OH, that meets the definitions of “unassociated funerary objects,” and “sacred objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

The eight objects are one shaman crown or headdress (No number); one shaman bone necklace (No number); one bear bone amulet (Accession 42.417); one spirit chaser bone amulet (No number, possibly Accession 427); one kushdakka bone amulet (Accession 427); one raven bone amulet (Accession 427); one eel bone amulet (Accession 427); and one ivory burial figure (Accession 42.1255).

The Western Reserve Historical Society was founded in 1867, and until 1940 records for accessions were scant or non-existent. Starting in 1894, book numbers were assigned consecutively to objects. This practice was terminated in 1940. From 1940-1943, a large-scale inventory of the Society's holdings was conducted and accession numbers were assigned to those objects with no prior book number or provenience. No cultural affiliation is listed in the original accession and catalog records for the eight cultural items. Photographs of the items and copies of catalog records were sent to various Alaskan Native Villages and Corporations. Collaboration with the Cleveland Museum of Natural History aided in the cultural identification of the cultural items to the Tlingit and Haida.

The burial figure (42.1255) does not have specific provenience information other than a catalog card that states “burial figure taken from elevated grave in Alaska.” Based on museum records and consultation with representatives of the Central Council of the Tlingit & Haida Indian Tribes, officials of the Western Reserve Historical Society have determined that the cultural item is an unassociated funerary object, and culturally affiliated with the Tlingit.

The shaman headdress and necklace were unfortunately overlooked in the 1940 inventory process and remain without an accession number. No provenience information has been found in the records. However, based on consultation with the Central Council of the Tlingit & Haida Indian Tribes, the two cultural items have been determined to be sacred objects, and culturally affiliated with the Tlingit.

In 1915, the bear amulet (42.417) was given to the Western Reserve Historical Society. The cultural item is from the Ben G. Goodman collection. Mr. Goodman, a former resident of Cleveland, spent 16 years as a fur trapper and resident of Nome, AK.

In April 1916, the estate of Colonel Orlando John Hodge of Cleveland was donated to the Western Reserve Historical Society. The accession register lists “four carved ivory amulets,” which are reasonably believed to be these four ivory amulets (Accession 427). Col. Hodge's connection to Alaska and how he acquired the amulets is unknown. However, based on consultation with the Central Council of the Tlingit & Haida Indian Tribes, the two cultural items have been determined to be sacred objects, and culturally affiliated with the Tlingit.

The Central Council of the Tlingit & Haida Indian Tribes further identified the headdress, necklace, and amulets as shaman (or ixt') objects, and as such sacred objects. Evidence given during consultation with the Central Council of the Tlingit & Haida Indian Tribes have indicated that shaman objects would have been buried with the shaman, and are therefore, funerary objects. Finally, consultation evidence of Tlingit property rights state that shaman sacred objects are also considered property of the clan. However, the specific shaman(s) and the clan(s) are unknown for the cultural items described in this notice.

Officials of the Western Reserve Historical Society have determined that, pursuant to 25 U.S.C. 3001(3)(B), the eight cultural items described above are reasonably believed to have been placed with or near individual human remains at the time of death or later as part of the death rite or ceremony and are believed, by a preponderance of the evidence, to have been removed from a specific burial site of an Native American individual. Officials of the Western Reserve Historical Society also have determined that, pursuant to 25 U.S.C. 3001 (3)(C), the seven cultural items described above are specific ceremonial objects needed by traditional Native American religious leaders for the practice of traditional Native American religions by their present-day adherents. Lastly, officials of the Western Reserve Historical Society have determined that, pursuant to 25 U.S.C. 3001 (2), there is a relationship of shared group identity that can be reasonably traced between the unassociated funerary objects and sacred objects and the Central Council of the Tlingit & Haida Indian Tribes.

Representatives of any other Indian tribe that believes itself to be culturally affiliated with the unassociated funerary objects and/or sacred objects should contact Danielle Routhier Peck, Senior Registrar, Western Reserve Historical Society, 10825 East Boulevard, Cleveland, OH 44106, telephone (216) 721-5722 extension 262, before March 4, 2009. Repatriation of the unassociated funerary objects and sacred objects to the Central Council of the Tlingit & Haida Indian Tribes may proceed after that date if no additional claimants come forward.

The Western Reserve Historical Society is responsible for notifying the Central Council of Tlingit & Haida Indian Tribes, Huna Heritage Foundation, and Sealaska Heritage Institute that this notice has been published.

Dated: December 24, 2008
Sherry Hutt,
Manager, National NAGPRA Program.

[FR Doc. E9-2114 Filed 1-30-09; 8:45 am]

BILLING CODE 4312-50-S